DEPARTMENT OF COMMERCE

National Oceanic and Atmospheric Administration

[RTID 0648-XD665]

Takes of Marine Mammals Incidental to Specified Activities; Taking Marine Mammals Incidental to Marine Site Characterization Surveys off New York, New Jersey, Delaware, and Maryland; Correction

AGENCY: National Marine Fisheries Service (NMFS), National Oceanic and Atmospheric Administration (NOAA), Commerce.

ACTION: Notice; correction.

SUMMARY: This notice contains a correction to the Summary of Request section of the notice of proposed incidental harassment authorization (IHA) for the taking of marine mammals incidental to marine site characterization surveys in waters off of New York, New Jersey, Delaware, and Maryland published in the Federal Register on January 5, 2024. That notice included an incorrect website address for accessing monitoring results submitted by Atlantic Shores Offshore Wind, LLC under previous IHAs. This notice provides a correction to that website address; all other information is unchanged.

FOR FURTHER INFORMATION CONTACT: Alyssa Clevenstine, Office of Protected Resources, NMFS, (301) 427-8401.

SUPPLEMENTARY INFORMATION:

Correction

In the Federal Register of January 5, 2024, in FR Doc. 2024-00008, on page 754, in the third column, correct the sentence in the Summary of Request section to read:

These previous monitoring results are available to the public on our website: https://www.fisheries.noaa.gov/action/incidental-take-authorization-atlantic-shores-offshore-wind-llc-marine-site-characterization and https://www.fisheries.noaa.gov/action/incidental-take-authorization-atlantic-shores-offshore-wind-bight-llc-marine-site.

Dated: January 18, 2024.
Kimberly Damon-Randall,
Director, Office of Protected Resources, National Marine Fisheries Service.

[FR Doc. 2024-01241 Filed 1-22-24; 8:45 am]

BILLING CODE 3510-22-P